DEPARTMENT OF JUSTICE

Notice of Lodging of Proposed Consent Decree Under The Clean Water Act

On September, 29, 2020, the Department of Justice lodged a proposed Consent Decree with the United States District Court for the Eastern District of Louisiana in the lawsuit entitled United States of America v. Churchill Downs Louisiana Horseracing Company, LLC d/b/a Fair Grounds Race Course and Slots Civil Action No. 2:20-cv-02637.

In this action, the United States, on behalf of the U.S. Environmental Protection Agency, filed a Complaint and proposed Consent Decree pertaining to Clean Water Act violations at the Defendant's horse racing facility in New Orleans, Louisiana. In the Complaint, the United States alleged that the Defendant discharged process wastewater from its horse-racing and stabling facility, a concentrated animal feeding operation, into the New Orleans municipal separate storm sewer system and other receiving waters in violation of the terms and conditions of the National Pollutant Discharge Elimination System permit issued to the Defendant under Section 402 of the Act, 33 U.S.C. 1342. Under the proposed settlement, the Defendant will pay $2,790,000.00 in civil penalties and perform injunctive relief to bring its facility into compliance with applicable federal laws and regulations to prevent future unauthorized discharges to area waterways.

The publication of this notice opens a period for public comment on the proposed Consent Decree. Comments should be addressed to the Assistant Attorney General, Environment and Natural Resources Division, and should refer to United States of America v. Churchill Downs Louisiana Horseracing Company, LLC d/b/a Fair Grounds Race Course and Slots, D.J. Ref. No. 90-5-1-1-11342. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, D.C. 20044-7611

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611,.

Please enclose a check or money order for $21.50 (25 cents per page reproduction cost) payable to the United States Treasury.

Kenneth Long,
Acting Assistant Section Chief, Environmental Enforcement Section, Environment and Natural Resources Division.

[FR Doc. 2020-21878 Filed 10-2-20; 8:45 am]

BILLING CODE 4410-15-P